DEPARTMENT OF VETERANS AFFAIRS

Veterans' Advisory Committee on Education; Notice of Meeting

The Department of Veterans Affairs (VA) gives notice under Pub. L. 92-463 (Federal Advisory Committee Act) that the Veterans' Advisory Committee on Education will meet on Tuesday, June 7, 2005, from 8 a.m. to 4 p.m., and Wednesday, June 8, 2005, from 8 a.m. to 12 noon. The meeting will be held at the Atlanta VA Regional Office, 1700 Clairmont Road, Decatur, GA 30333-4032. The meeting is open to the public.

The purpose of the Committee is to advise the Secretary of Veterans Affairs on the administration of education and training programs for veterans and servicepersons, reservists, and dependents of veterans under chapters 30, 32, 35, 36 of title 38, and chapter 1606 of title 10, United States Code.

On June 7, the meeting will begin with opening remarks and an overview by Mr. James Bombard, Committee Chair. During the morning session, Committee members will tour regional processing office operations. In the afternoon, they will discuss the total force GI Bill, VA educational assistance program trends, reporting fees, utilization of faith-based funds to support programs, and the Horatio Alger Foundation follow up. On June 8, the Committee will review and summarize issues addressed during the meeting.

Interested persons may file written statements to the Committee before the meeting, or within 10 days after the meeting, with Mrs. Judith B. Timko, Designated Federal Officer, Department of Veterans Affairs, Veterans Benefits Administration (225B), 810 Vermont Avenue, NW., Washington, DC 20420. Oral statements will be heard on Wednesday, June 8, 2005, at 9:15 a.m. Any member of the public wishing to attend the meeting should contact Mrs. Judith B. Timko or Mr. Michael Yunker at (202) 273-7187.

Dated: May 10, 2005.
By direction of the Secretary.
E. Philip Riggin,
Committee Management Office.

[FR Doc. 05-9652 Filed 5-13-05; 8:45 am]

BILLING CODE 8320-01-M